DEPARTMENT OF HOMELAND SECURITY

Coast Guard

33 CFR Part 165

[CGD13-07-015]

RIN 1625-AA00

Security Zone: Portland Rose Festival on Willamette River

AGENCY: Coast Guard, DHS.

ACTION: Notice of enforcement of Rose Festival Security Zone.

SUMMARY: The Captain of the Port Portland, Oregon will begin enforcing the Portland Rose Festival Security Zone from June 6th, 2007 until June 11, 2007. This zone provides for the security of public vessels on a portion of the Willamette River during the fleet week of the 2007 Rose Festival.

DATES: This notice of enforcement for 33 CFR 165.1312 will be enforced from 12:01 a.m., June 6, 2007 until 11:59 p.m., June 11, 2007.

FOR FURTHER INFORMATION CONTACT: Petty Officer Michelle Duty , c/o Captain of the Port Portland, OR, 6767 North Basin Avenue, Portland, OR 97217 at (503) 240-9301 to obtain information concerning enforcement of this rule.

SUPPLEMENTARY INFORMATION: On May 29, 2003, the Coast Guard published a final rule (68 FR 31979 as amended by 70 FR 33352 published on June 8, 2005) establishing a security zone, in 33 CFR 165.1312, for the security of public vessels on a portion of the Willamette River during the fleet week of the Rose Festival. This security zone provides for the regulation of vessel traffic in the vicinity of the moored vessels. Entry into this zone is prohibited unless authorized by the Captain of the Port or his designee. The Captain of the Port Portland will begin enforcing the Rose Festival Security Zone established by 33 CFR 165.1312 on June 6, 2007. The Captain of the Port may be assisted by other Federal, State, or local agencies in enforcing this security zone. This security zone will be enforced until June 11, 2007.

Dated: April 20, 2007.
Patrick G. Gerrity,
Captain, U.S. Coast Guard, Captain of the Port, Portland.

[FR Doc. E7-8725 Filed 5-7-07; 8:45 am]

BILLING CODE 4910-15-P